DEPARTMENT OF THE INTERIOR

Bureau of Land Management

[CA-610-03-1220-AA]

Notice of Public Meetings of the California Desert District Advisory Council

AGENCY: Bureau of Land Management, Department of the Interior.

ACTION: Notice of public meetings of the California Desert District Advisory Council.

SUMMARY: Notice is hereby given, in accordance with Public Laws 92-463 and 94-579, that the California Desert District Advisory Council to the Bureau of Land Management, U.S. Department of the Interior, has scheduled three meetings during 2003 at the following dates and locations:

March 27-29; Ramada Inn (workshop and formal session), 1511 E. Main Street, Barstow, California.

• 27: Half day field tour; gather 12 noon, parking lot, Ramada Inn.

• 28: Council workshop 8 a.m. to noon; formal session, 1 p.m. to 5 p.m.

• 29: Formal session, 8 a.m. to 5 p.m.

June 27-28; Marriott (workshop and formal session, 3400 Market Street, Riverside, California.

• 27: Council workshop.

• 28: Formal session 8 a.m. to 5 p.m.

Sept. 19-20; Kerr McGee Center, 100 West California Avenue, Ridgecrest, California 93555.

• Field tour: gather 7:15 a.m., parking lot, China Lake Best Western Inn, 400 South China Lake Boulevard, Ridgecrest, CA.

• Formal session, Kerr McGee Center, 8 a.m. to 5 p.m.

The Council and interested members of the public will assemble for the field tours at the designated parking lot locations. The public is welcome to participate in the tours, but should plan on providing their own transportation, drinks, and lunch.

All Desert District Advisory Council meetings are open to the public. Time for public comment is scheduled at the beginning of the meeting for topics not on the agenda, and will be made available by the Council Chairman during the presentation of various agenda items. Time for public comment is also scheduled at the end of the meeting.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: For additional information regarding meeting and tour agendas contact Doran Sanchez, BLM California Desert District Public Affairs Specialist, (909) 697-5220.

Dated: February 22, 2003.
Linda Hansen,
District Manager.

[FR Doc. 03-4597 Filed 2-26-03; 8:45 am]

BILLING CODE 4310-40-P